DEPARTMENT OF AGRICULTURE

Rural Housing Service

Information Collection Activity; Comment Request

AGENCY: Rural Housing Service (RHS), USDA.

ACTION: Notice and request for comment.

SUMMARY: In accordance with the Paperwork Reduction Act of 1995, the United States Department of Agriculture (USDA) Rural Housing Service (RHS) invites comments on this information collection for which approval from the Office of Management and Budget (OMB) will be requested.

DATES: Comments on this notice must be received by October 21, 2019.

FOR FURTHER INFORMATION CONTACT: Thomas P. Dickson, Rural Development Innovation Center—Regulatory Team 2, USDA, 1400 Independence Avenue SW, STOP 1522, South Building, Washington, DC 20250-1522. Telephone: (202) 690-4492. Email thomas.dickson@usda.gov.

SUPPLEMENTARY INFORMATION:

Title: Section 515 Multifamily Preservation and Revitalization (MPR) Demonstration Program.

OMB Control Number: 0575-0190.

Type of Request: Extension of currently approved information collection.

Abstract: The Agriculture, Rural Development, Food and Drug Administration, and Related Agencies Appropriation Act, 2006 (Pub. L. 109-97) provides funding for, and authorizes Rural Development to conduct a demonstration program for the preservation and revitalization of the Section 515 Multi-Family Housing portfolio. Section 515 of the Housing Act of 1949 (42 U.S.C. 1485) provides Rural Development the authority to make loans for low-income Multi-Family Housing and related facilities.

Rural Development refers to this program as Multifamily Preservation and Revitalization (MPR) Demonstration Program. A Notice of Solicitation for Applications (NOSA) sets forth the eligibility and application requirements. Information will be collected from applicants and grant recipients by Rural Development staff in its Local, Area, State, and National Offices. This information will be used to determine applicant eligibility for this demonstration program. If an applicant proposal is selected, that applicant will be notified of the selection and given the opportunity to submit a formal application.

This MPR demonstration program continues to adjust the various opportunities available to demonstrate effective methods of providing the needed financial resources not otherwise available to current owners and transferees. Using alternative forms of financing, these owners will preserve existing Agency-financed Rural Rental Housing and Farm Labor Housing and extend the property's useful life for tenants meeting RD eligibility requirements. Since the inception of the MPR demonstration program in 2006, revisions and adjustments in the nature of the program have necessitated certain revisions in the context, formatting and use of the original forms in this package to permit RD's ability to provide these needed financial opportunities. To meet current Agency NOSA, regulatory and industry standards, the following forms are being revised, reformatted and/or renamed in some instances to provide clarity and consistency in their practical use and application:

• MPR Pre-Application

• Debt Deferral Agreement

• Restrictive-Use Covenant

• Restrictive-Use Subordination Agreement

• MPR Grant Agreement

• MPR Loan and Grant Resolution (non-profit corporation)

• Restructuring Conditional Commitment (renamed: MPR Offer and Conditional Commitment)

• Addendum to Debt Deferral Agreement

• Subordination Agreement

Estimate of Burden: Public reporting burden for this collection of information is estimated to average 1 hour per response.

Respondents: Individuals, partnerships, public and private non-profit corporations, agencies, institutions, organizations, and Indian tribes.

Estimated Number of Respondents: 1,500.

Estimated Number of Responses per Respondent: 1.

Estimated Total Annual Burden on Respondents: 18,701 hours.

Copies of this information collection can be obtained from Taylor Abens, Rural Development Innovation Center—Regulatory Team 2, USDA, 1400 Independence Avenue SW, STOP 1522, Room 4233, South Building, Washington, DC 20250-1522. Telephone: (712) 203-5625. Email taylor.abens@usda.gov. All responses to this notice will be summarized and included in the request for OMB approval. All comments will also become a matter of public record.

Bruce W. Lammers,
Administrator, Rural Housing Service.

[FR Doc. 2019-17799 Filed 8-19-19; 8:45 am]

BILLING CODE 3410-XV-P